DEPARTMENT OF COMMERCE

National Oceanic and Atmospheric Administration

[RTID 0648-XA296]

Caribbean Fishery Management Council; Public Meeting

AGENCY: National Marine Fisheries Service (NMFS), National Oceanic and Atmospheric Administration (NOAA), Commerce.

ACTION: Notice of public meeting.

SUMMARY: The Caribbean Fishery Management Council (CFMC) will hold the 170th public meeting (virtual) to address the items contained in the tentative agenda included in the SUPPLEMENTARY INFORMATION.

DATES: The 170th CFMC virtual public meeting will be held on August 11, 2020, from 9 a.m. to 4 p.m. and on August 12, 2020, from 9 a.m. to 12:30 p.m. The meeting will be at Eastern Daylight Time.

ADDRESSES: You may join the 170th CFMC virtual public meeting via GoToMeeting, from a computer, tablet or smartphone by entering the following address:

Tuesday, August 11, 2020, 9 a.m.-4 p.m. (GMT-04:00)

Please join the meeting from your computer, tablet or smartphone.

https://global.gotomeeting.com/join/440034621

You can also dial in using your phone.

United States: +1 (872) 240-3412

Access Code: 440-034-621

Get the app now and be ready when the first meeting starts:

https://global.gotomeeting.com/install/440034621

Wednesday, August 12, 2020, 9 a.m.—12:30 p.m. (GMT-04:00)

Please join the meeting from your computer, tablet or smartphone.

https://global.gotomeeting.com/join/972849573

You can also dial in using your phone.

United States: +1 (872) 240-3212

Access Code: 972-849-573

Get the app now and be ready when the first meeting starts:

https://global.gotomeeting.com/install/972849573

In case there are problems with GoToMeeting, and we cannot reconnect via GoToMeeting, the meeting will continue via Google Meet.

Tuesday, August 11, 2020, 9 a.m.-4 p.m., Atlantic Standard Time

Join with Google Meet

meet.google.com/gbs-xeaw-zzq

Wednesday, August 12, 2020, 9 a.m.-12:30 p.m. Atlantic Standard Time—Puerto Rico

Join with Google Meet

meet.google.com/nvm-nkcp-jmf

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

August 11, 2020, 9 a.m.—11 a.m.

—Call to Order

—Roll Call

—Swearing of New Council Members

—Election of Officers

—Adoption of Agenda

—Consideration of 169th Council Meeting Verbatim Transcriptions

—Executive Director's Report

August 11, 2020, 11 a.m.-11:10 a.m.

—Break

August 11, 2020, 11:10 a.m.-12 p.m.

—Scientific and Statistical Committee (SSC) Report on July 27-28, 2020, Meeting- Richard Appeldoorn

August 11, 2020, 12 p.m.-1 p.m.

—Lunch Break

August 11, 2020, 1 p.m.-1:30 p.m.

—Ecosystem-Based Fishery Management Technical Advisory Panel Report—Sennai Habtes

August 11, 2020, 1:30 p.m.-2 p.m.

—Southeast Fisheries Science Center Update

August 11, 2020, 2 p.m.-2:30 p.m.

—Five-Year Strategic Plan Update—Michell Duval

August 11, 2020, 2:30 p.m.-3:30 p.m.

—Gear Discussion: Allowable Gear Types

—Anchoring Discussion: Grammanik Bank

August 11, 2020, 3:30 p.m.-4 p.m.

—Public Comment Period (5-minute presentations)

August 11, 2020, 4 p.m.

—Adjourn

August 12, 2020, 9 a.m.-10 a.m.

—Island-Based Fishery Management Plans Update—Maria del Mar López

—Options Paper for Updating Spiny Lobster Annual Catch Limit on Island-Based Fishery Management Plans Based on SEDAR 57

—Discussion of Yellowtail Snapper Recreational Bag Limit under the St. Croix Fishery Management Plan

August 12, 2020, 10 a.m.-10:10 a.m.

—Break

August 12, 2020, 10:10 a.m.-10:40 a.m.

—Outreach and Education Advisory Panel Report—Alida Ortíz

August 12, 2020, 10:40 a.m.-11:40 a.m.

—Enforcement (15 minutes each)

—Puerto Rico—Department of Natural and Environmental Resources (DNER)

—U.S.V.I—Department of Planning and Natural Resources (DPNR)

—U.S. Coast Guard

—NOAA Fisheries Office of Law Enforcement

August 12, 2020, 11:40 a.m.-12 p.m.

—Other Business

August 12, 2020, 12 p.m.-12:30 p.m.

—Public Comment Period (5-minute presentations)

August 12, 2020, 12:30 p.m.

—Adjourn

The order of business may be adjusted as necessary to accommodate the completion of agenda items. The meeting will begin on August 11, 2020, at 9 a.m. EDT, and will end on August 12, 2020, at 12:30 p.m. EDT. Other than the start time on the first date, interested parties should be aware that discussions may start earlier or later than indicated in the agenda, at the discretion of the Chair.

Special Accommodations

Simultaneous interpretation will be provided.

Se proveerá interpretación en español.

Para interpretación en español puede marcar el siguiente número para entrar a la reunión:

US/Canadá: llame al +1-888-947-3988, cuando el sistema conteste, entrar el número 1*999996#.

For English interpretation you may dial the following number to enter the meeting:

US/Canada: call +1-888-947-3988, when the system answers enter the number 2*999996#.

For any additional information on this public virtual meeting, please contact Diana Martino, Caribbean Fishery Management Council, 270 Muñoz Rivera Avenue, Suite 401, San Juan, Puerto Rico 00918-1903, telephone: (787) 226-8849.

Authority: 16 U.S.C. 1801 et seq.

Dated: July 22, 2020.
Tracey L. Thompson,
Acting Deputy Director, Office of Sustainable Fisheries, National Marine Fisheries Service.

[FR Doc. 2020-16179 Filed 7-24-20; 8:45 am]

BILLING CODE 3510-22-P